FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 16, 2015.

A. Federal Reserve Bank of Chicago (Colette A. Fried, Assistant Vice President) 230 South LaSalle Street, Chicago, Illinois 60690-1414:

1. Michael G. Lewis, individually and as trustee of the W. W. Pete Archbold Trust, Ossian, Indiana, to individually and together as a group acting in concert with the W.W. Pete Archbold Trust, David Lewis, Gary Lewis, Tonya Lewis, Barbara Gehring, Kent Gehring, and Diane Scheumann, all of Ossian, Indiana; to acquire 10 percent of the voting shares of Ossian Financial Services, Inc., and thereby indirectly acquire control of Ossian State Bank, both of Ossian, Indiana.

B. Federal Reserve Bank of Dallas (E. Ann Worthy, Vice President) 2200 North Pearl Street, Dallas, Texas 75201-2272:

1. Guadalupe Alonzo Cantu, individually and as trustee for Allysa Nichole Cantu, Alexis C. Cantu, GAC 2004 GRAT No. 1, YRC 2004 GRAT No. 1, Alexis C. Cantu UGTM, and Allysa Nichole Cantu UGTM; Yolanda R. Cantu, individually and as trustee for Alexis Cantu; Elvia Cantu Saenz, individually and as trustee of the Alonzo Cantu 2011 Exempt Family Trust; Jesus A. Saenz, individually; Elida F. Cantu, individually; and Victor Haddad, individually, and as trustee of the Alonzo Cantu 2005 Exempt Family Trust and the Yolanda R. Cantu 2005 Exempt Family Trust; all of McAllen, Texas; Samuel David Deanda, Jr., individually and as trustee of the Yolanda R. Cantu 2011 Exempt Family Trust, and Vivian Deanda, individually, both of Mission, Texas; Cantu Ventures, Ltd., Cantu Management, LLC, Alycan, Ltd., all of McAllen, Texas; collectively a group acting in concert to retain voting shares of Lone Star National Bancshares-Texas, Inc., McAllen, Texas, and thereby, indirectly retain voting shares of Lone Star National Bank, Pharr, Texas.

Board of Governors of the Federal Reserve System, December 22, 2014.
Michael J. Lewandowski,
Associate Secretary of the Board.

[FR Doc. 2014-30353 Filed 12-29-14; 8:45 am]

BILLING CODE 6210-01-P